DEPARTMENT OF HEALTH AND HUMAN SERVICES

Centers for Disease Control and Prevention

Announcement of Requirements and Registration for Game On!: HIV/STD Prevention Mobile Application (App) Video Game Challenge

AGENCY: Centers for Disease Control and Prevention (CDC), Department of Health and Human Services (HHS).

Award Approving Official: Thomas R. Frieden, MD, MPH, Director, Centers for Disease Control and Prevention, and Administrator, Agency for Toxic Substances and Disease Registry.

ACTION: Notice.

SUMMARY: The Centers for Disease Control and Prevention (CDC) located within the Department of Health and Human Services (HHS) announces the launch of the Game On!: HIV/STD Prevention Mobile Application (App) Video Game Challenge. We invite video game developers to create an original, innovative, and highly entertaining game for smartphones that educates either adolescents (13 to 17 years of age) or young adults (18 to 24 years of age) about HIV infection and sexually transmitted diseases (STDs). Developers are encouraged to treat youth and young adults as distinct audience/player segments in the design of the game. The game should deliver health information that provides information on key HIV/STD prevention topics such as condom use, testing, and treatment. Specifically, the game should emphasize one or more of the following prevention messages—“Get the Facts”, “Speak Up”, “Use Condoms”, “Get Tested”, and “Get Treated”. More information on these prevention messages is found in SUPPLEMENTARY INFORMATION.

DATES: Contestants can submit game apps beginning September 13, 2013 through December 2, 2013. Judging will take place in December 2013 through January 2014. Winners will be announced in February 2014.

FOR FURTHER INFORMATION CONTACT: LCDR Jocelyn Patterson Mosley, Centers for Disease Control and Prevention, 1600 Clifton Road NE., Mailstop E37, Atlanta, GA 30333, email GameOn@cdc.gov, or by phone (404) 639-6437.

SUPPLEMENTARY INFORMATION:

Subject of Challenge Competition

Entrants of the Game On!: HIV/STD Prevention Mobile Application (App) Video Game contest will be asked to submit an original and innovative game app for smartphones that emphasizes one or more of the following prevention messages—“Get the Facts”, “Speak Up”, “Use Condoms”, “Get Tested”, and “Get Treated”.

“Get the Facts”-Provide the facts on HIV and STDs, including how it is (and is not) spread. Share information on how to reduce the risk of HIV and STD transmission, including the choice not to have sex.

“Speak Up”-Encourage youth to talk about HIV and STDs in their relationships, with health care providers, friends, and family. Talking openly and honestly about HIV and STDs will help reduce stigma.

“Use Condoms”-When used consistently and correctly, latex condoms are highly effective in preventing HIV and STDs.

“Get Tested” -Early diagnosis saves lives. Know where to get tested. Make HIV and STD testing a part of routine health care.

“Get Treated” -Many STDs are curable and all are treatable. There are effective medications available to help people with HIV live long and healthy lives.

Given the high rates of HIV infection and STDs, it is critical to develop appealing and relevant ways to reach youth with important information and resources. HHS/CDC's mission is to protect the health of the nation through health promotion, prevention of disease, injury and disability, and preparedness for new health threats. It is important for HHS/CDC to develop programs and messages that are accurate and appropriate for the target population.

Therefore, to address HIV and STDs among adolescents (13 to 17 years) and young adults (18 to 24 years), HHS/CDC must develop innovative, appealing and relevant ways to reach youth with important health information and resources. The goal of this challenge is to develop an HIV/STD prevention game acceptable to a wide range of adolescents and young adults that also maintains the standards of a HHS/CDC product. The game should deliver accurate health messages that support positive relationships and the ability of youth to make healthy and responsible decisions about their sexuality.

Eligibility Rules for Participating in the Competition

The Game On! Challenge is only open to individuals, private or public entities, or groups that meet the following requirements: In the case of a private entity, the entity must be incorporated in and maintain a primary place of business in the United States, and in the case of an individual, whether participating singly or in a group, must be a citizen or permanent resident of the United States who is at least 15 years old at the time of entry. If the contestant/submitter is younger than 18 at the time of entry, the contestant/submitter must submit written permission from a parent or guardian. Employees and contractors of HHS/CDC are not eligible. The contest is subject to all applicable federal laws and regulations. Participation constitutes the contestant's full and unconditional agreement to these official rules, which are final and binding in all matters related to the contest. Eligibility for winning and acknowledgement is contingent upon fulfilling all requirements set forth herein.

Participants who enter as part of a team understand and agree that submission of an entry constitutes their representation and warranty that all the members of the team have read and accepted the rules. The eligibility of the contestant is tied to the team's eligibility; if one member of the team does not comply with these rules or is disqualified, the team as a whole will be disqualified.

To be eligible to win a prize under this challenge, an individual or entity—

(1) Shall have registered to participate in the competition under the rules promulgated by the Centers for Disease Control and Prevention;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment. Federal employees seeking to participate in this contest outside the scope of their employment should consult their ethics office prior to developing their submission.

(5) Shall not be an HHS employee working on their applications or submissions during assigned duty hours.

(6) Shall not be an employee of Centers for Disease Control and Prevention.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Registration Process for Participants

Register for the Game On!: HIV/STD Prevention Mobile Application (App) Video Game Challenge at http://www.challenge.gov. Interested persons should read the official rules and guidelines posted on the Challenge.gov site to create an eligible game. If a person wishes to register to enter a submission, they must click on the link to “follow” the Challenge at the top of the Challenge site. All submissions will be reviewed to confirm eligibility.

Amount of the Prize

Two winners will be selected. The first place winner will receive $20,000.00. The second place winner will receive $10,000.00. Up to 5 honorable mentions will be nominated.

Basis Upon Which Winner Will Be Selected

The games will be judged by a panel of internal HHS/CDC staff and external partners in compliance with the requirements of the America COMPETES Act.

Submissions will be screened by HHS/CDC or its agents who will be trained on the eligibility criteria and required elements outlined above. Following determination of eligibility, judges will review the submissions for content quality, game play, appeal, and additional considerations. Included in the judging criteria for each submission are the following:

Content

1. Creativity in incorporating one or more of the following key messages into the game: Get the Facts, Speak Up, Use Condoms, Get Tested, or Get Treated.

2. Accuracy of HIV and STD prevention information.

3. Appropriate content and features for intended target audience and supports positive relationships and healthy decision making.

Game play

4. Playability, ease of play, and usability.

5. Clarity of rules and objectives.

Appeal

6. Entertainment (engaging, fun) and interest in repeat play among members of the target population; broad appeal to target population.

7. Creative integration of smartphone functions.

Additional Information

Regarding Copyright/Intellectual Property: All games submitted to the Game On! HIV/STD Prevention Mobile Application (App) Video Game Challenge remain the intellectual property of the entities that developed them. However, HHS/CDC will have a nonexclusive, royalty-free license to use, reproduce, publish, distribute, and exhibit the submission/winning game in any and all formats or manner for educational, training, and other public health purposes consistent with HHS and/or HHS/CDC's mission. Following the contest, all games will undergo further evaluation. The prize winning games may be used “as is” in its entirety or revised for a final game using segments or concepts from the first and second place winners into one game.

Submission Rights: The winners will need to transfer a nonexclusive, royalty-free license to use, reproduce, and distribute the app source code to HHS/CDC and/or release the source code under an open source license that allows HHS/CDC to make future modifications and releases of the app. The winners will be acknowledged in any actions conducted under this license.

Compliance With Rules and Contacting Contest Winners

Finalists and the contest winners must comply with all terms and conditions of the official rules, and winning is contingent upon fulfilling all requirements herein. The initial finalists will be notified by email, telephone, or mail after the date of the judging. Awards may be subject to Federal income taxes, and the Department of Health and Human Services will comply with the Internal Revenue Service withholding and reporting requirements, where applicable.

Privacy

If contestants choose to provide HHS/CDC with personal information by registering or filling out the submission form through the Challenge.gov Web site, that information is used to respond to contestants in matters regarding their submission, announcements of entrants, finalists, and winners of the contest. Information is not collected for commercial marketing. Winners are permitted to cite that they won this contest.

General Conditions

HHS/CDC reserves the right to cancel, suspend, and/or modify the contest, or any part of it, for any reason, at HHS/CDC's sole discretion.

Participation in this contest constitutes a contestant's full and unconditional agreement to abide by the contest's official rules found at www.Challenge.gov.

Authority: 15 U.S.C. 3719

Dated: September 9, 2013.
Tanja Popovic,
Deputy Associate Director for Science, Centers for Disease Control and Prevention.

[FR Doc. 2013-22285 Filed 9-12-13; 8:45 am]

BILLING CODE 4163-18-P